DEPARTMENT OF HOMELAND SECURITY

Federal Emergency Management Agency

[Docket ID FEMA-2010-0048]

Recovery Policy, RP9525.16, Research-Related Equipment and Furnishings

AGENCY: Federal Emergency Management Agency, DHS.

ACTION: Notice of availability; request for comments.

SUMMARY: The Federal Emergency Management Agency (FEMA) is accepting comments on Recovery Policy RP9525.16 Research-related Equipment and Furnishings. This is an existing policy that is scheduled for review to ensure that Recovery Directorate policies are consistent with current laws and regulations. This policy identifies the expenses associated with disaster-damaged research-related equipment and furnishings of eligible private nonprofit or public facilities that are eligible for reimbursement under the Public Assistance Program.

DATES: Comments must be received by September 13, 2010.

ADDRESSES: Comments must be identified by docket ID FEMA-2010-0048 and may be submitted by one of the following methods:

Federal eRulemaking Portal: http://www.regulations.gov. Follow the instructions for submitting comments. Please note that this proposed policy is not a rulemaking and the Federal Rulemaking Portal is being utilized only as a mechanism for receiving comments.

Mail: Rules Docket Manager, Office of Chief Counsel, Federal Emergency Management Agency, Room 835, 500 C Street, SW., Washington, DC 20472-3100.

FOR FURTHER INFORMATION CONTACT: Deborah Atkinson, Federal Emergency Management Agency, 500 C Street, SW., Washington, DC 20472, Deborah.Atkinson@dhs.gov.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of www.regulations.gov.

You may submit your comments and material by the methods specified in the ADDRESSES section above. Please submit your comments and any supporting material by only one means to avoid the receipt and review of duplicate submissions.

Docket: The proposed policy is available in docket ID FEMA-2010-0048. For access to the docket to read background documents or comments received, go to the Federal eRulemaking Portal at http://www.regulations.gov and search for the docket ID. Submitted comments may also be inspected at FEMA, Office of Chief Counsel, Room 835, 500 C Street, SW., Washington, DC 20472.

II. Background

Eligible Public Assistance applicants conducting active research programs, and that have incurred damages to their facility as a result of a declared major disaster, may be eligible for Public Assistance grant funding for replacement or repair of facilities and the equipment and/or furnishings contained within. The cost of performing research itself is not eligible for Public Assistance grant funding. Because research is not identified as an eligible PNP service under 44 CFR 206.221(e), an active research program must support an eligible function such as an educational or medical function in order for the facilities, equipment and/or furnishings to be eligible. The draft updated policy proposes to include insurance considerations for the applicant that may affect Public Assistance funding.

FEMA seeks comment on the proposed policy, which is available online at http://www.regulations.gov in docket ID FEMA-2010-0048. Based on the comments received, FEMA may make appropriate revisions to the proposed policy. Although FEMA will consider any comments received in the drafting of the final policy, FEMA will not provide a response to comments document. When or if FEMA issues a final policy, FEMA will publish a notice of availability in the Federal Register and make the final policy available at http://www.regulations.gov.

Authority: 42 U.S.C. 5121-5207; 44 CFR part 206.

David J. Kaufman,
Director, Office of Policy and Program Analysis, Federal Emergency Management Agency.

[FR Doc. 2010-20071 Filed 8-12-10; 8:45 am]

BILLING CODE 9111-23-P